DEPARTMENT OF LABOR

Employment and Training Administration

[TA-W-50,416]

Sprague Industries, Providence, RI; Notice of Termination of Investigation

Pursuant to section 221 of the Trade Act of 1974, as amended, an investigation was initiated on January 2, 2003, in response to a worker petition filed by a company official on behalf of workers at Sprague Industries, Providence, Rhode Island.

The petitioner has requested that the petition be withdrawn. Consequently, the investigation has been terminated.

Signed in Washington, DC this 28th day of February, 2003.
Richard Church
Certifying Officer, Division of Trade Adjustment Assistance.

[FR Doc. 03-6565 Filed 3-18-03; 8:45 am]

BILLING CODE 4510-30-P